ADMINISTRATIVE OFFICE OF THE UNITED STATES COURTS

Electronic Access Fees for Federal Agencies

AGENCY: Administrative Office of the United States Courts.

ACTION: Clarification.

SUMMARY: The Administrative Office of the United States Courts will begin collecting fees for electronic public access in bankruptcy courts that have installed and are using Version One of the new Case Management/Electronic Case Files (CM/ECF) system, as of July 1, 2001. Deployment is scheduled to be completed for all court types by 2005.

DATES: This policy is applicable as of July 1, 2001.

FOR FURTHER INFORMATION CONTACT: Mary Stickney, Chief of the EPA Program Office, (202) 502-1500.

SUPPLEMENTARY INFORMATION: As the federal judiciary moves increasingly toward using electronic case files, there has been a great deal of interest in the manner and scope of the application of public access charges for electronic court data, as mandated by Congress in the Judicial Appropriations Act of 1991 and set forth in the Judicial Conference Miscellaneous Fee Schedule (28 U.S.C. 1913, 1914, 1926, 1930, 1932). The schedule imposes a charge of seven cents per page for access to data obtained electronically from the public dockets of individual case records in the court. This charge is collected by the Administrative Office through its Electronic Public Access (EPA) program and applies largely to case data from docket sheets obtained through the Public Access to Court Electronic Records (PACER) system, although an increasing number of courts have begun providing online images of official court documents as well, to which the fee equally applies.

Recently, a small number of courts have implemented a prototype version of the judiciary's new CM/ECF system, which permits electronic access to all case file documents, in addition to docket sheets. Access to CM/ECF has been available free of charge to all users in these prototype courts.

With deployment of the first full version (“Version One”) of the bankruptcy software, the EPA program will begin administering the required seven cents per page fee in the bankruptcy courts, as of July 1, 2001. District courts and courts of appeals will begin billing when their respective Version One applications are implemented, which is expected in 2002 and 2003 respectively.

Although the access fee applies to all users, it should be noted that it will not apply to official recipients of electronic documents, i.e. those parties legally entitled to receive service, or to whom service is directed by the filer. This policy will entitle attorneys of record, as well as, in most instances, U.S. Trustees and bankruptcy case trustees, to one free electronic copy of all of the documents that they need from the case file in order to fulfill their legal responsibilities. As before, parties will still be responsible for maintaining their own files; should they fail to make a copy at the time of service, however, then any additional copy from the court will cost seven cents per page for an electronic version, fifty cents per page for paper.

As CM/ECF is deployed, the fee for Internet access to case data, which currently explicitly applies to federal agencies, has obvious potential impact on the everyday operations of many federal agencies, as well as on bankruptcy case trustees and United States Trustees. In order to assess that impact, and to ensure that, consistent with the policy of the Judicial Conference, usage charges are set at the lowest possible level sufficient to fund the program, the Administrative Office has begun a study of the fee's potential impact on external users, including government agencies. The study is expected to be completed in the first half of 2001, and the input of the federal agencies who practice in the federal courts should prove an important source of data in this endeavor.

Leonidas Ralph Mecham,
Director.

[FR Doc. 01-11522 Filed 5-7-01; 8:45 am]

BILLING CODE 2210-55-P